ENVIRONMENTAL PROTECTION AGENCY

[EPA-HQ-OPP-2010-0014; FRL-9400-7]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a February 22, 2013 Federal Register Notice of Receipt of Requests from the registrants listed in Table 2 of Unit II. to voluntarily cancel these product registrations. In the February 22, 2013 Federal Register notice, EPA indicated that it would issue an order implementing the cancellations, unless the Agency received substantive comments within the 180 day comment period that would merit its further review of these requests, or unless the registrants withdrew their requests. The Agency received one comment on the February 22, 2013 Federal Register notice but it did not merit its further review of the request. Further, the registrants did not withdraw their request. Accordingly, EPA hereby issues in this notice, a cancellation order, granting the requested cancellations. Any distribution, sale, or use of the products subject to this cancellation order is permitted only in accordance with the terms of this cancellation order, including any existing stocks provisions.

DATES: The cancellations are effective September 25, 2013.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3. These registrations are listed in sequence by registration number in Table 1 of this unit.

In addition, several product registrations were originally listed in the February 22, 2013 Federal Register notice, but are not included in Table 1 of this unit due to cancellations made final prior to the August 21, 2013 deadline.

More specifically, pesticide products cancelled via company request on February 6, 2013, includes 061483-00011 and 061483-00012, while product OR-030037 was cancelled on July 31, 2013. Four other pesticide registrations (000655-00802, 074062-00002, CA-870038, and WA-070010) were cancelled due to non-payment of the 2013 pesticide maintenance fee (effective July 22, 2013).

Table 1—Product Cancellations
EPA Registration No. | Product name | Chemical name
000241-00391 | Pendulum 3.3 Herbicide | Pendimethalin.
000241-00403 | Pendimethalin Manufacturing Concentrate Herbicide | Pendimethalin.
000264-00807 | Calypso 70WG Insecticide | Thiacloprid.
009688-00198 | Chemsico Herbicide Concentrate DP | Prometon, Diquat dibromide.
009688-00218 | Chemsico Herbicide RTU DP | Prometon, Diquat dibromide.
053883-00135 | Esfenvalerate AG | Esfenvalerate.
CA-060004 | Gramoxone Inteon | Paraquat dichloride.
CO-110002 | Rozol Prarie Dog Bait | Chlorophacinone.
ID-980007 | Agri-Mek 0.15 EC Miticide/Insecticide | Abamectin.
IL-050001 | Callisto | Mesotrione.
LA-090006 | Confirm 2F | Tebufenozide.
OR-040013 | Agri-Mek 0.15 EC Miticide/Insecticide | Abamectin.
OR-060006 | Prowl H2O Herbicide | Pendimethalin.
OR-060007 | Prowl H2O Herbicide | Pendimethalin.
TX-060017 | Gramoxone Inteon | Paraquat dichloride.
VA-060002 | Gramoxone Inteon | Paraquat dichloride.
WA-030007 | Trinexapac Liquid | Trinexapac-ethyl.
WA-080006 | Provide 10SG | Gibberellin A4 mixt. with Gibberellin A7.

Table 2 of this unit includes the names and addresses of record for all registrants of the products in Table 1 of this unit, in sequence by EPA company number. This number corresponds to the first part of the EPA registration numbers of the products listed in Table 1 of this unit.

Table 2—Registrants of Cancelled Products
EPA Company No. | Company name and address
241 (OR-060006, OR-060007) | BASF Corporation, 26 Davis Dr., P.O. Box 13528, Research Triangle Park, NC 27709-3528.
264 | Bayer CropScience LP, 2 T.W. Alexander Dr., P.O. Box 12014, Research Triangle Park, NC 27709.
9688 | Chemsico, P.O. Box 142642, St. Louis, MO 63114-0642.
53883 | Control Solutions, Inc. 5903 Genoa-Red Bluff Rd., Pasadena, TX 77057-1041.
CA-060004, ID-980007, IL-050001, OR-040013, TX-060017, VA-060002, WA-030007 | Syngenta Crop Protection, LLC, 410 Swing Rd., P.O. Box 18300, Greensboro, NC 27419-8300.
CO-110002 | Liphatech, Inc., 3600 W. Elm St., Milwaukee, WI 53209.
LA-090006 | Dow AgroSciences LLC, 9330 Zionsville Rd., 308/2E, Indianapolis, IN 46268-1054.
WA-080006 | Valent BioSciences Corporation, Environmental Science Division, 870 Technology Way, Libertyville, IL 60048-6316.

III. Summary of Public Comments Received and Agency Response to Comments

During the public comment period provided, EPA received one comment. The Agency does not believe that the comment submitted during the comment period merits further review or a denial of the request for voluntary cancellation.

IV. Cancellation Order

Pursuant to FIFRA section 6(f), EPA hereby approves the requested cancellations of the registrations identified in Table 1 of Unit II. Accordingly, the Agency hereby orders that the product registrations identified in Table 1 of Unit II. are canceled. The effective date of the cancellations that are the subject of this notice is September 25, 2013. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of February 22, 2013 (78 FR 12313) (FRL-9378-7). The comment period closed on August 21, 2013.

VI. Provisions for Disposition of Existing Stocks

Existing stocks are those stocks of registered pesticide products which are currently in the United States and which were packaged, labeled, and released for shipment prior to the effective date of the cancellation action. The existing stocks provisions for the products subject to this cancellation order are as follows.

The registrants may continue to sell and distribute existing stocks of products listed in Table 1 of Unit II. until September 25, 2014, which is 1 year after the publication of the cancellation order in the Federal Register. Thereafter, the registrants are prohibited from selling or distributing products listed in Table 1 of Unit II., except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: September 18, 2013.
Richard P. Keigwin, Jr.,
Director, Pesticide Re-Evaluation Division, Office of Pesticide Programs.

[FR Doc. 2013-23392 Filed 9-24-13; 8:45 am]

BILLING CODE 6560-50-P